DEPARTMENT OF HEALTH AND HUMAN SERVICES

National Institutes of Health

Center for Scientific Review; Amended Notice of Meeting

Notice is hereby given of a change in the meeting of the Center for Scientific Review Special Emphasis Panel, Biophysics and Biochemistry Fellowship Review, December 13, 2023, 11:00 a.m. to December 13, 2023, 05:00 p.m., National Institutes of Health, Rockledge II 6701 Rockledge Drive, Bethesda, MD 20892 which was published in the Federal Register on November 28, 2023, 88 FR 83143, Doc 2023-26127.

This meeting is being amended to change the meeting panel name from “Biophysics and Biochemistry Fellowship Review” to “Topics in Biophysics and Biochemistry”. The meeting is closed to the public.

Dated: November 30, 2023.
David W. Freeman,
Supervisory Program Analyst, Office of Federal Advisory Committee Policy.

[FR Doc. 2023-26667 Filed 12-4-23; 8:45 am]

BILLING CODE 4140-01-P